DEPARTMENT OF ENERGY

Federal Energy Regulatory Commission

[Project No. 2150-033]

Puget Sound Energy, Inc., Washington; Notice of Availability of a Draft Environmental Impact Statement for the Baker River Hydroelectric Project

April 7, 2006.

In accordance with the National Environmental Policy Act of 1969 and the Federal Energy Regulatory Commission's (Commission) regulations, 18 CFR part 380 (Order No. 486, 52 FR 47897), the Office of Energy Projects has reviewed the application for a license for the Baker River Hydroelectric Project (FERC No. 2150-033), located on the Baker River in Whatcom and Skagit counties, Washington and has prepared a Draft Environmental Impact Statement (EIS) for the project. The draft EIS was prepared in cooperation with the U.S. Army Corps of Engineers pursuant to 40 CFR 1501.6 of the National Environmental Policy Act. The Baker River Project occupies 5,207 acres of lands within the Mt. Baker-Snoqualmie National Forest managed by the U.S. Forest Service.

In the draft EIS, Commission staff evaluate the applicant's proposal and the alternatives for relicensing the project. The draft EIS documents the views of governmental agencies, non-governmental organizations, affected Indian tribes, the public, the license applicant, and Commission staff.

Comments should be filed with Magalie R. Salas, Secretary, Federal Energy Regulatory Commission, 888 First Street, NE., Washington, DC, 20426. All comments must be filed by May 30, 2006, and should reference Project No. 2150-033. Comments may be filed electronically via the Internet in lieu of paper. The Commission strongly encourages electronic filings. See 18 CFR 385.2001(a)(1)(iii) and instructions on the Commission's Web site at http://www.ferc.gov under the eLibrary link.

The Commission staff will consider comments made on the draft EIS in preparing a final EIS for the project. Before the Commission makes a licensing decision, it will take into account all concerns relevant to the public interest. The final EIS will be part of the record from which the Commission will make its decision.

Copies of the draft EIS are available for review in the Commission's Public Reference Branch or may be viewed on the Commission's Web site at http://www.ferc.gov under the eLibrary link. Enter the docket number excluding the last three digits in the docket number field to access the document. For assistance, contact FERC Online Support at FERCOnlineSupport@ferc.gov or toll-free at (866) 208-3676, or for TTY, (202) 502-8659.

You may also register online at http://www.ferc.gov/docs-filing/esubscription.asp to be notified via e-mail of new filings and issuances related to this or other pending projects. For assistance, contact FERC Online Support.

Anyone may intervene in this proceeding based on this draft EIS (18 CFR 380.10). You must file your request to intervene as specified above.¹ You do not need intervenor status to have your comments considered.

¹ Interventions may also be filed electronically via the Internet in lieu of paper. See the previous discussion on filing comments electronically.

For further information, contact Steve Hocking at (202) 502-8753 or at steve.hocking@ferc.gov.

Magalie R. Salas,
Secretary.

Project No. 2150-033

[FR Doc. E6-5555 Filed 4-13-06; 8:45 am]

BILLING CODE 6717-01-P